DEPARTMENT OF AGRICULTURE

Forest Service

Tongass National Forest; Alaska; Mendenhall Glacier Visitor Facility Improvements Project

AGENCY: Forest Service, Agriculture (USDA).

ACTION: Notice of intent to prepare a supplemental draft environmental impact statement.

SUMMARY: The Tongass National Forest, Alaska, intends to prepare a supplemental draft environmental impact statement (SDEIS) for the Mendenhall Glacier Visitor Facility Improvements Project. The notice of availability for the draft EIS was published on March 4, 2022 and amended on April 15, 2022. Public comments on the draft EIS requested analysis of additional alternatives, primarily related to the siting of a proposed Welcome Center and parking areas at the Mendenhall Glacier Recreation Area (MGRA) in Juneau, Alaska. The SDEIS will include three new action alternatives. Although not required, this notice of intent provides for public awareness of the forthcoming SDEIS.

DATES: The Forest Service is not inviting comments at this time. The SDEIS is expected to be available for public review and comment in the first quarter of 2023, and the final EIS is expected to be issued in the second quarter of 2023. The comment period for the SDEIS will be for 45 days from the date the Environmental Protection Agency publishes the notice of availability in the Federal Register.

ADDRESSES: Tongass National Forest, 648 Mission Street, Suite No. 110, Ketchikan, AK 99901.

FOR FURTHER INFORMATION CONTACT: Monique Nelson, project manager, by phone at 1-907-209-4090 or by email at monique.nelson@usda.gov.

Individuals who use telecommunication devices for the deaf (TDD) may call the Federal Relay Service (FRS) at 1-800-877-8339, 24 hours a day, every day of the year, including holidays.

SUPPLEMENTARY INFORMATION:

Purpose and Need for Action

The purpose of the project is to update infrastructure and create recreation opportunities at the MGRA that can accommodate projected future visitor use while protecting the unique characteristics and outstanding beauty of the area. The project is needed to continue to provide quality opportunities for all visitors to enjoy the Recreation Area, to provide new recreation and interpretation experiences that emphasize the area's outstanding scenery and wildlife resources even as the glacier recedes out of view of the existing Visitor Center, to meet the demand of the visitor industry and support the economy of Southeast Alaska, and to protect the area from environmental impacts associated with increased visitation.

Proposed Action

The proposed action was described in the December 16, 2020 notice of intent and as alternative 2 in the draft EIS. The proposed action includes expansion of the two main parking areas nearest the existing Visitor Center, requiring fill of Zigzag pond; reconfiguration and paving of the commercial bus parking lot and addition of a maintenance building; replacement of a covered outdoor pavilion and parking area shelter with a new 14,000 square-foot Welcome Center, outdoor plaza with amphitheater, interpretive and wayfinding signs, and waiting shelters; renovations to the historic Visitor Center; improvements to the existing Steep Creek, Nugget Falls, and Photo Point Trails; installation of three new paved trailheads along the Glacier Spur Road; creation of a new 2.2 mile paved Lakeshore Trail along the south shore of Mendenhall Lake from the Welcome Center Complex to the Mendenhall Campground, with a bridge across the Mendenhall River; creation of a new day use area at the Mendenhall Campground; construction of up to five new public use rental cabins at the Mendenhall Campground; realignment and restoration of about 1,500 feet of Steep Creek and replacement of perched culverts with a bridge at the Glacier Spur Road; addition of multi-use trails in the Dredge Lakes and West Glacier areas; construction of three boat docks and support facilities and addition of ferry service with 49-passenger motorized boats from the Welcome Center area to the proposed Remote Glacier Visitor Area; creation of a Remote Glacier Visitor Area with seasonal structures, restroom facilities, and trails; increases to visitor capacity and commercial use management allocations to accommodate 30-year use projections; and changes to recreation area unit boundries and recreation opportunity spectrum designations.

Preliminary Alternatives

The draft EIS analyzed the no action alternative, proposed action, and two additional action alternatives. Alternative 1 is the no action alternative, and alternative 2 is the proposed action. Alternative 3 differs from the proposed action in that the expanded parking areas do not require filling Zigzag pond; Welcome Center outdoor plazas are smaller; Lakeshore Trail is routed inland before crossing Mendenhall River to the campground; configurations for the Steep Creek Trail and the crossing at Glacier Spur Road are different; configurations for docks at the Welcome Center and West Glacier areas are different and the Remote Glacier Visitor Area requires only a landing beach; 35-passenger electric motorized boats with drop-bow would be used for ferry service; and changes to visitor capacity and commercial use management allocations would accommodate 20-year projections.

Alternative 4 differs from the proposed action in that the expanded parking areas do not require filling Zigzag pond; Welcome Center outdoor plaza area is smaller, with no lower plaza or amphitheater; Lakeshore Trail is 1-mile long and does not include a bridge to Mendenhall Campground; configurations for the Steep Creek Trail and the crossing at Glacier Spur Road are different; there are no boat docks, ferry service, or Remote Glacier Visitor Area; and changes to visitor capacity and commercial use management allocations would accommodate 15-year projections. All three action alterntives included the same proposed design and location for the proposed Welcome Center.

The SDEIS will include three additional action alternatives. Alternative 5 includes a revised design and slightly modified location for the Welcome Center, still near the location of the existing pavilion near the lakeshore. Alternative 5 also refines many of the other proposals included in the proposed Action, including refined parking lot configurations; refined Lakeshore Trail alignment; a new proposal for parking expansion at the Skater's Cabin area rather than within the Mendenhall Campground; refinement of the proposal for the Glacier Spur Road crossing of Steep Creek using a bottomless arch for wildlife crossing only; and allowance of 49-passenger electric motorized boats for ferry service to a modified Remote Glacier Visitor Area.

Alternative 6 includes a Welcome Center set in the rocks near the historic Visitor Center and away from the Lakeshore; remote bus drop off with electric shuttle service to the Welcome Center; an alternative proposal for the Glacier Spur Road crossing of Steep Creek using a bottomless arch for wildlife crossing and a separate human underpass; no boat docks, ferry service, or Remote Glacier Visitor Area; and other refinements the same as Alternative 5.

Alternative 7 includes a Welcome Center and expanded bus parking located away from Mendenhall Lake at the commercial bus lot with electric shuttle service to the Visitor Center, and other refinements the same as Alternative 5.

Expected Impacts

The draft EIS disclosed that impacts were expected to be negligible, minor, or moderate for most resources. The analysis disclosed major effects to scenic resources from Alternatives 2 and 3, and permanent, adverse effects to essential fish habitat for all action alternatives. The SDEIS will add to the analysis of these issues for the additional action alternatives.

Lead and Cooperating Agencies

The Forest Service is the lead agency. The National Oceanic and Atomospheric Association, National Marine Fisheries Service is a cooperating agency.

Responsible Official

Tongass National Forest Supervisor.

Scoping Process

A notice of intent published on December 16, 2020 initated the scoping process for the Mendenhall Glacier Visitor Facility Improvements Project. In accordance with 40 CFR 1502.9(c)(4), no further scoping will be conducted for this SDEIS. The SDEIS will be available for public comment as required by 40 CFR 1503.1. The SDEIS will be announced for public review and comment in the Federal Register and in the Ketchikan Daily News.

Permits, Licenses or Other Authorizations Required

Prior to implementation of the project, the Forest Service will obtain all necessary permits or authorizations from other Federal and State agencies including the U.S. Army Corps of Engineers, National Marine Fisheries Service, State of Alaska Department of Environmental Conservation, Alaska Department of Fish and Game, State of Alaska Office of History and Archaeology, and Alaska Department of Transportation and Public Facilities.

Nature of Decision To Be Made

The Responsible Official will review the no action alternative, the proposed action, other action alternatives, and the environmental consequences of each alternative to make decisions that include: (1) whether to construct new or improve existing facilities at the MGRA; (2) whether to increase visitor capacity and commercial use of the MGRA or specific management units; (3) whether to approve additional forest orders associated with management of the MGRA; and (4) whether any mitigation measures or monitoring will be required as part of implementation.

Dated: November 3, 2022.
Sandra Watts,
Acting Associate Deputy Chief, National Forest System.

[FR Doc. 2022-24328 Filed 11-7-22; 8:45 am]

BILLING CODE 3411-15-P